DEPARTMENT OF VETERANS AFFAIRS

[OMB Control No. 2900-New (VBBS)]

Agency Information Collection Activities Under OMB Review

AGENCY: Office of Policy, Planning and Preparedness, Department of Veterans Affairs.

ACTION: Notice.

SUMMARY: In compliance with the Paperwork Reduction Act (PRA) of 1995 (44 U.S.C. 3501-3521), this notice announces that the Office of Policy, Planning and Preparedness (OPP&P), Department of Veterans Affairs, has submitted the collection of information for the Veterans' Disability Benefits Commission as abstracted below to the Office of Management and Budget (OMB) for review and comment. The PRA submission describes the nature of the information collection and its expected cost and burden; it includes the actual data collection instrument.

DATES: Comments must be submitted on or before August 23, 2007.

ADDRESSES: Submit written comments on the collection of information through http://www.Regulations.gov; or to VA's OMB Desk Officer, OMB Human Resources and Housing Branch, New Executive Office Building, Room 10235, Washington, DC 20503 (202) 395-7316. Please refer to “OMB Control 2900-New (VBBS)” in any correspondence.

FOR FURTHER INFORMATION CONTACT: Denise McLamb, Initiative Coordination Service (005R1B), Department of Veterans Affairs, 810 Vermont Avenue, NW., Washington, DC 20420, (202) 565-8374, fax (202) 565-7870 or e-mail denise.mclamb@mail.va.gov. Please refer to “OMB Control No. 2900-New (VBBS)”.

SUPPLEMENTARY INFORMATION: Title: 2007 Veterans Burial Benefits Survey.

OMB Control Number: 2900-New (VBBS).

Type of Review: New collection.

Abstract: The data collected by the Veterans Burial Benefits Survey will be used to determine whether the burial needs of veterans and eligible family members are met, to provide veterans and their families with timely and accurate symbolic expressions of remembrance, and ensure that national cemeteries are maintained as shrines dedicated to preserving our Nation's history, nurturing patriotism, and honoring the service and sacrifice of veterans.

An agency may not conduct or sponsor, and a person is not required to respond to a collection of information unless it displays a currently valid OMB control number. The Federal Register Notice with a 60-day comment period soliciting comments on this collection of information was published on May 14, 2007, at page 27176.

Affected Public: Individuals or households.

Estimated Total Annual Burden: 2,407 hours.

Estimated Average Burden Per Respondent: 15 minutes.

Frequency of Response: One-time.

Estimated Number of Respondents: 9,626.

Dated: July 16, 2007.
By direction of the Secretary.
Denise McLamb,
Program Analyst, Records Management Service.

[FR Doc. E7-14194 Filed 7-23-07; 8:45 am]

BILLING CODE 8320-01-P